DEPARTMENT OF COMMERCE

National Oceanic and Atmospheric Administration

50 CFR Part 648

[Docket No. 220210-0043; RIN 0648-BL07]

Revisions to Framework Adjustment 61 to the Northeast Multispecies Fishery Management Plan and Sector Annual Catch Entitlements; Correction

AGENCY: National Marine Fisheries Service (NMFS), National Oceanic and Atmospheric Administration (NOAA), Commerce.

ACTION: Final rule; adjustment to specifications; correction.

SUMMARY: This final rule distributes sector allocation carried over from fishing year 2020 into fishing year 2021 and corrects the regulations implementing Framework Adjustment 61 to the Northeast Multispecies Fishery Management Plan. This action is necessary to correct regulatory errors and to allocate carryover quota to sectors. The carryover adjustments are routine and formulaic, and industry expects them each year.

DATES: The correction to 50 CFR 648.85 is effective February 16, 2022. The distribution of sector allocation carried over into fishing year 2021 is effective February 16, 2022, through April 30, 2022.

FOR FURTHER INFORMATION CONTACT: Spencer Talmage, Fishery Management Specialist, (978) 281-9232.

SUPPLEMENTARY INFORMATION: On July 28, 2021, we published a final rule approving Framework Adjustment 61 to the Northeast Multispecies Fishery Management Plan (FMP) (86 FR 40353), which set or adjusted 2021-2023 annual catch limits (ACL) for 17 of the 20 groundfish stocks, and 2021 ACLs for three shared U.S./Canada stocks. Framework 61 also approved and implemented the Universal Sector Exemption for Acadian Redfish (Redfish). This rule distributes unused sector quota carried over from fishing year 2020 and corrects a regulatory error which incorrectly defines the boundaries of the Redfish Exemption Area and Redfish Exemption Area Seasonal Closure II.

Sector Carryover Allocations From Fishing Year 2019

Carryover regulations at 50 CFR 648.87(b)(1)(i)(C) allow each groundfish sector to carry over an amount of unused Annual Catch Entitlement (ACE) equal to 10 percent of the sector's original ACE for each stock (except for Georges Bank [GB] yellowtail flounder) that is unused at the end of the fishing year into the following fishing year. We are required to adjust ACE carryover to ensure that the total unused ACE combined with the overall sub-ACL does not exceed the Acceptable Biological Catch (ABC) for the fishing year in which the carryover may be harvested. We have completed 2020 fishing year data reconciliation with sectors and determined final 2020 fishing year sector catch and the amount of allocation that sectors may carry over from the 2020 to the 2021 fishing year. Unused ACE from fishing year 2020 available to carry over to 2021 was reduced for the following stocks: Georges Bank (GB) cod; GB haddock; Gulf of Maine (GOM) haddock; Southern New England/Mid-Atlantic (SNE/MA) yellowtail flounder; Cape Cod/GOM yellowtail flounder; American plaice; witch flounder; GB winter flounder; GOM winter flounder; SNE/MA winter flounder; redfish; white hake; and pollock. Complete details on carryover reduction percentages can be found at: https://www.greateratlantic.fisheries.noaa.gov/ro/fso/reports/h/groundfish_catch_accounting.

Table 1 includes the maximum amount of allocation that sectors may carry over from the 2020 to the 2021 fishing year. Table 2 includes the de minimis amount of carryover for each sector for the 2021 fishing year. If the overall ACL for any allocated stock is exceeded for the 2021 fishing year, the allowed carryover harvested by a sector, minus the pounds in the sector's de minimis amount, will be counted against its allocation to determine whether an overage subject to an accountability measure occurred. Tables 3 and 4 list the final ACE available to sectors for the 2021 fishing year, including finalized carryover amounts for each sector, as adjusted down when necessary to equal each stock's ABC.

Correction to Redfish Exemption Areas

The Redfish Exemption Program defined at § 648.85(e)(1) allows sector vessels to target redfish using a 5.5-inch (14.0-centimeter (cm)) mesh codend within the Redfish Exemption Area, defined in the regulations at § 648.85(e)(1)(ii). Also included in the regulations for the Redfish Exemption Program are two seasonal closure areas in which no vessel may participate in the Redfish Exemption Program. These are the Redfish Exemption Area Cod Closure defined at § 648.85(e)(1)(ii)(A) and the Redfish Exemption Area Seasonal Closure II defined at § 648.85(e)(1)(ii)(B).

Portions of the boundaries for both the Redfish Exemption Area and the Redfish Exemption Area Seasonal Closure II follow the boundaries of the U.S. Exclusive Economic Zone (EEZ). The regulations that currently list the points delineating these areas state that the areas are defined by straight lines connecting the following points in the order stated. For both areas, when straight lines are drawn between points located on the U.S. EEZ and preceding or subsequent points, the boundaries of the areas that result do not follow the boundaries of the U.S. EEZ as intended. As a result, small portions of the Redfish Exemption Area and Redfish Exemption Area Seasonal Closure II currently extend past the boundary of the U.S. EEZ, into Canadian waters.

This rule corrects this error by revising the regulations at § 648.85(e)(1)(ii) and § 648.85(e)(1)(ii)(B) to correctly state that the lines connecting points located on the U.S. EEZ follow the boundary of the U.S. EEZ.

Though the erroneous definitions for the Redfish Exemption Area and Redfish Exemption Area Seasonal Closure II extended these areas past the U.S. EEZ into Canadian waters, they did not authorize vessels to fish in Canadian waters. The correction being implemented by this rule, as a result, does not change any operational aspect of the Redfish Exemption Program. Instead, it is an administrative change designed to ensure regulations are written accurately and to reduce confusion.

BILLING CODE 3510-22-P

Classification

NMFS is issuing this rule pursuant to 305(d) of the Magnuson-Stevens Act, which provides specific authority for implementing this action. Section 305(d) authorizes NMFS to take action because in a previous action taken pursuant to section 304(b), the Council designed the FMP to authorize NMFS to annually adjust and distribute sector carryover. See § 648.87(b)(1)(i)(C). Additionally, pursuant to section 305(d), this action is necessary to carry out the Northeast Multispecies FMP, because the regulatory corrections to the Redfish Exemption Area and Redfish Exemption Area Seasonal Closure II at § 648.85(e)(1)(ii) and § 648.85(e)(1)(ii)(B) are necessary to correctly administrate the Redfish Exemption Program. The NMFS Assistant Administrator has determined that this final rule is consistent with the Northeast Multispecies FMP, other provisions of the Magnuson-Stevens Fishery Conservation and Management Act, and other applicable laws.

This rule has been determined to be not significant for purposes of Executive Order 12866.

Pursuant to 5 U.S.C. 553(b)(3)(B), we find good cause to waive prior public notice and opportunity for public comment on the allocation adjustments and corrections because allowing time for notice and comment would be impracticable, unnecessary, and contrary to the public interest. We also find good cause to waive the 30-day delay in effectiveness pursuant to 5 U.S.C. 553(d)(1) and (3), so that this final rule may become effective in a timely manner and the fishery may maximize the economic benefits of the adjusted allocations to the fishery.

Notice and comment and a 30-day delay in effectiveness would be impracticable, unnecessary, and contrary to the public interest. The distribution of unused quota carried over from the previous fishing year is an annual adjustment action that is expected by industry. These adjustments increase available catch. They are routine, formulaic, and authorized by regulation. The public had prior notice and opportunity to participate in the development of and comment on the regulations implementing this process and expects this adjustment each year. Delaying these adjustments would result in a delay in the distribution of unused carryover to sectors, and could negate or reduce the intended economic benefits and increased operational flexibility provided by these adjustments. We only recently finalized carryover for 2020 based on data available in the late fall.

The regulatory revisions in this rule are necessary to correct regulatory errors made in the implementation of Framework 61. Correcting these errors is not subject to our discretion, so there would be no benefit to allowing time for notice and comment. Immediate implementation corrects information published in Framework Adjustment 61 and provides industry with the most accurate information. Delaying these corrections could cause confusion about compliance with legal requirements. The need for these corrections was discovered only recently, so quicker action on our part was not possible.

Also, because advanced notice and the opportunity for public comment are not required for this action under the Administrative Procedure Act, or any other law, the analytical requirements of the Regulatory Flexibility Act, 5 U.S.C. 601, et seq., do not apply to this rule. Therefore, no final regulatory flexibility analysis is required and none has been prepared.

This final rule contains no information collection requirements under the Paperwork Reduction Act of 1995.

List of Subjects in 50 CFR Part 648

Fisheries, Fishing, Recordkeeping and reporting requirements.

Dated: February 10, 2022.
Samuel D. Rauch, III,
Deputy Assistant Administrator for Regulatory Programs, National Marine Fisheries Service.

For the reasons stated in the preamble, 50 CFR part 648 is amended as follows:

PART 648—FISHERIES OF THE NORTHEASTERN UNITED STATES

1. The authority citation for part 648 continues to read as follows:

Authority: 16 U.S.C. 1801 et seq.

2. In § 648.85, revise the introductory text of paragraph (e)(1)(ii) and paragraph (e)(1)(ii)(B) to read as follows:

§ 648.85 Special management programs.

* * * * *

(e) * * *

(1) * * *

(ii) Redfish Exemption Area. The Redfish Exemption Area is the area defined by straight lines connecting the following points in the order stated, except between points D and E and E and F, the boundary follows the outer limits of the U.S. EEZ. (A chart depicting this area is available from the Regional Administrator upon request):

Table 14 to Paragraph (e)(1)(ii) Introductory Text
Point | N lat. | W long.
A | 43°00′ | 69°55′
B | 43°00′ | 69°30′
C | 43°20′ | 69°30′
D | 43°20′ | (¹)
E | 42°53.24′ | 67°44.55′
F | 42°20′ | (²)
G | 42°20′ | 67°40′
H | 42°00′ | 67°40′
I | 42°00′ | 69°37′
J | 42°20′ | 69°55′
A | 43°00′ | 69°55′
¹ U.S. EEZ longitude, approximately 67°35.07′.
² U.S. EEZ longitude, approximately 67°18.17′.

* * * * *

(B) Redfish Exemption Area Seasonal Closure II. No vessel may participate in the Redfish Exemption Program inside the Redfish Exemption Area Seasonal Closure II from September 1 through December 31 of each year. The Redfish Exemption Area Seasonal Closure II is the area defined by straight lines connecting the following points in the order stated, except between points F and G the boundary follows the outer limits of the U.S. EEZ:

Table 16 to Paragraph (e)(1)(ii)(B)
Point | N lat. | W long.
M | 42°47.17′ | 67°40′
F | 42°20′ | (¹)
G | 42°20′ | 67°40′
M | 42°47.17′ | 67°40′
¹ U.S. EEZ longitude, approximately 67°18.17′.

* * * * *

[FR Doc. 2022-03338 Filed 2-16-22; 8:45 am]

BILLING CODE 3510-22-C